GOVERNMENT ACCOUNTABILITY OFFICE

National Health Care Workforce Commission

AGENCY: Government Accountability Office (GAO).

ACTION: Notice on letters of nomination.

SUMMARY: The Patient Protection and Affordable Care Act gave the Comptroller General of the United States responsibility for appointing 15 members to the National Health Care Workforce Commission, with appointments to be made not later than September 30th, 2010. Qualifications of the commissioners are identified in Section 5101 of the Act. For these appointments, I am announcing the following: Letters of nomination and resumes should be submitted by June 30th, 2010 to ensure adequate opportunity for review and consideration of nominees prior to appointment of members. Letters of nomination and resumes can be sent to either the e-mail or mailing address listed below.

ADDRESSES: Nominations can be submitted by either of the following: E-mail: HCWorkforce@gao.gov. Mail: GAO Health Care, Attention: National Health Care Workforce Commission Nominations, 441 G Street, NW., Washington, DC 20548.

FOR FURTHER INFORMATION CONTACT: GAO: Office of Public Affairs, (202) 512-4800.

[Section 5101, Pub. L. 111-148]

Gene L. Dodaro,
Acting Comptroller General of the United States.

[FR Doc. 2010-10829 Filed 5-6-10; 8:45 am]

BILLING CODE 1610-02-M